DEPARTMENT OF ENERGY

[Docket No. PP-66-1]

Application to Transfer Presidential Permit; Citizens Communications Company and Vermont Electric Power Company, Inc.

AGENCY: Office of Fossil Energy, DOE.

ACTION: Notice of application.

SUMMARY: Citizens Communications Company (Citizens) and Vermont Electric Power Company, Inc. (VELCO) have jointly applied to transfer Presidential Permit PP-66 from Citizens to VELCO.

DATES: Comments, protests or requests to intervene must be submitted on or before October 2, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Ellen Russell (Program Office) 202-586-9624 or Michael Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038. Existing Presidential permits are not transferable or assignable. However, in the event of a proposed voluntary transfer of physical facilities, in accordance with the regulations at 10 CFR 205.323, the existing holder of a permit and the transferee are required to file joint application for transfer with the Department of Energy (DOE) that includes a statement of reasons for the transfer.

On June 21, 1979, DOE issued Presidential Permit PP-66 to Citizens Utilities Company (now Citizens Communications Company) for one 120,000-volt (120-kV) electric transmission line that crosses the United States border with Canada near Derby Line, Vermont, and interconnects with similar transmission facilities in Canada owned by Hydro Quebec.

On August 21, 2003, Citizens and VELCO (collectively, the “Applicants”) jointly filed an application with DOE to transfer Presidential Permit PP-66 from Citizens to VELCO. VELCO is a Vermont corporation comprised of several electric utilities operating in Vermont (as further described in the application). VELCO currently owns and operates most of the bulk transmission facilities in Vermont, other than those currently owned by Citizens. VELCO proposes to purchase from Citizens transmission facilities in northern Vermont, including the international transmission facilities that are the subject of PP-66.

In this application, the Applicants state that there will be no physical changes to the existing permitted facilities.

Procedural Matters: Any person desiring to become a party to this proceeding or to be heard by filing comments or protests to this application should file a petition to intervene, comment or protest at the address provided above in accordance with section 385.211 or 385.214 of the FERC's Rules of Practice and Procedures (18 CFR 385.211, 385.214). Fifteen copies of each petition and protest should be filed with the DOE on or before the date listed above.

Comments on the joint application to transfer Presidential Permit PP-66 from Citizens to VELCO should be clearly marked with Docket PP-66-1. Additional copies are to be filed directly with L. Russell Mitten, Esq., VP, General Counsel, Citizens Communications Company, 3 High Ridge Park, Stamford, CT 06905; Mr. Gary Parker, V.P., Director of Planning, Engineering, Construction and Transmission, Vermont Electric Power Company, Inc., 366 Pinnacle Ridge Road, Rutland, VT 05701; and Kenneth G. Hurwitz, Esq., Haynes and Boone, LLP, 550 11th Street, NW, Suite 650, Washington, DC 20004-1314; and John H. Marshall, Esq., Downs Rachlin Martin PLLC, 90 Prospect Street, P.O. Box 99, St. Johnsbury, VT 05819-0099.

Before a Presidential permit may be issued or amended, the DOE must determine that the proposed action will not adversely impact on the reliability of the U.S. electric power supply system. In addition, DOE must consider the environmental impacts of the proposed action (i.e., granting the Presidential permit with any conditions and limitations, or denying it) pursuant to the National Environmental Policy Act of 1969. DOE also must obtain the concurrence of the Secretary of State and the Secretary of Defense before taking final action on a Presidential permit application.

Copies of these applications will be made available, upon request, for public inspection and copying at the address provided above or by accessing the Fossil Energy Home Page at http://www.fe.doe.gov. Upon reaching the Fossil Energy Home page, select “Electricity Regulation,” and then “Pending Proceedings” from the options menus.

Issued in Washington, DC, on August 26, 2003.
Anthony J. Como,
Deputy Director, Electric Power Regulation, Office of Coal & Power Import/Export, Office of Coal & Power Systems, Office of Fossil Energy.

[FR Doc. 03-22303 Filed 8-29-03; 8:45 am]

BILLING CODE 6450-01-P